ENVIRONMENTAL PROTECTION AGENCY

[EPA-HQ-OPP-2020-0429; FRL-10013-50]

United States Department of Justice and Parties to Certain Litigation; Transfer of Data

AGENCY: Environmental Protection Agency (EPA).

ACTION: Notice.

SUMMARY: This notice announces that pesticide related information submitted to the Environmental Protection Agency (EPA) pursuant to the Federal Insecticide, Fungicide, and Rodenticide Act (FIFRA) and the Federal Food, Drug, and Cosmetic Act (FFDCA), including information that may have been claimed as Confidential Business Information (CBI) by the submitter will be transferred to the U.S. Department of Justice (DOJ) and parties to certain litigation. This transfer of data is in accordance with the CBI regulations governing the disclosure of potential CBI in litigation.

DATES: Access to this information by DOJ and the parties to certain litigation is ongoing and expected to continue during the litigation as discussed in this notice.

FOR FURTHER INFORMATION CONTACT: Pesticide Re-Evaluation Division (7505P), Office of Pesticide Programs, Environmental Protection Agency, 1200 Pennsylvania Ave. NW, Washington, DC 20460-0001; main telephone number: (703) 347-0292; email address: glyphosateregreview@epa.gov.

SUPPLEMENTARY INFORMATION:

This notice is being provided pursuant to 40 CFR 2.209(d) to inform affected businesses that EPA, via DOJ, will provide certain information to the parties and the Court in the consolidated matters of Rural Coalition, et al. v. U.S. Environmental Protection Agency, Case No. 20-70801 (9th Cir.) and Natural Resources Defense Council, et al. v. U.S. Environmental Protection Agency et al., Case No. 20-70787 (9th Cir.) (collectively, referred to as the “Glyphosate Litigation”). The information is contained in documents that have been submitted to EPA pursuant to FIFRA and FFDCA by pesticide registrants or other data-submitters, including information that has been claimed to be, or determined to potentially contain CBI. In the Glyphosate Litigation, the petitioners seek judicial review of EPA's Interim Registration Review Decision (Interim Decision) for the pesticide active ingredient glyphosate that was issued pursuant to the FIFRA, 7 U.S.C. 136 et seq.

The documents are being produced as part of the Administrative Record of the Interim Decision at issue and include documents that registrants or other data-submitters may have submitted to EPA regarding the pesticide glyphosate, and that may be subject to various release restrictions under federal law. The information includes documents submitted with pesticide registration applications and may include CBI as well as scientific studies subject to the disclosure restrictions of FIFRA section 10(g), 7 U.S.C. 136h(g).

All documents that may be subject to release restrictions under federal law are designated as “Confidential or Restricted Information” under a Protective Order that parties to the Glyphosate litigation jointly filed with the court on July 1, 2020 (Dkt.37-2). The Protective Order precludes public disclosure of any such documents by the parties in this action who have received the information from EPA, unless a party successfully obtains a de-designation as Confidential or Restricted Information of any portion of the Administrative Record via the procedure described in paragraph 6 of the Protective Order, and limits the use of such documents to litigation purposes only.

EPA expects to begin providing documents no later than 10 business days from the issuance of the Protective Order. If filed with the Court, such documents would be filed under seal and would not be available for public review, unless the information contained in the document has been determined to not be subject to FIFRA section 10(g) and all CBI has been redacted. At the conclusion of the Glyphosate Litigation, paragraph 8 of the Protective Order requires that record material EPA designates as “Confidential or Restricted Information” be destroyed or returned to EPA.

Authority: 7 U.S.C. 136 et seq.; and 21 U.S.C. 301 et seq.

Dated: August 31, 2020.
Mary Reaves,
Acting Director, Pesticide Re-Evaluation Division, Office of Pesticide Programs.

[FR Doc. 2020-19773 Filed 9-4-20; 8:45 am]

BILLING CODE 6560-50-P